DEPARTMENT OF DEFENSE

Department of the Army; Corps of Engineers

Intent To Prepare a Draft Environmental Impact Statement Titled: Alexandria, LA, to the Gulf of Mexico Flood Control Improvements in the Chatlan Lake Canal Basin

AGENCY: Department of the Army, U.S. Army Corps of Engineers, DoD.

ACTION: Notice of intent.

SUMMARY: The U.S. Army Corps of Engineers, New Orleans District, is initiating this study authorized by a July 23, 1997 resolution of the Committee on Transportation and Infrastructure of the U.S. House of Representatives. The resolution reads: “Resolved by the Committee on Transportation and Infrastructure of the U.S. House of Representatives, that the Secretary of the Army is required to review the report of the Chief of Engineers on the Mississippi River and Tributaries Project, published as House Document 308, Eighty-eighth Congress, Second Session, and other pertinent reports, to determine whether modifications of the recommendations contained therein are advisable at the present time in the interest of flood control, navigation, wetlands, conservation restoration, wildlife habitat, commercial and recreational fishing, saltwater intrusion, freshwater and sediment diversion, and other purposes in the area drained by the West Atchafalaya Basin Protection Levee, from Alexandria, Louisiana, to the Gulf of Mexico.”

FOR FURTHER INFORMATION CONTACT: Questions concerning the Environmental Impact Statement (EIS) should be addressed to Mr. Nathan Dayan at U.S. Army Corps of Engineers, PM-RS, P.O. Box 60267, New Orleans, LA 70160-0267, phone (504) 862-2530, fax number (504) 862-2572 or by e-mail at Nathan.S.Dayan@mvn02.usace.army.mil.

SUPPLEMENTARY INFORMATION: The purpose of this analysis is to address the feasibility of a Federal project to reduce flooding problems and other water resources problems and needs in the Alexandria, LA area. Economic and environmental analysis would be used to determine the most practical plan, which would provide for the greatest overall public benefit.

1. Proposed Action. The proposed action would include the flood control improvements in the Chatlin lake canal basin in the Alexandria, LA area. The plan includes the enlargement of the upper reach (~14 miles) of the Chatlin Lake canal, south of the city of Alexandria, and the construction of a new diversion canal (~5 miles) between the Chatlin Lake canal and the Red River south of John H. Overton lock and dam. This plan would be considered with a gravity drainage structure through the south bank of the Red River levee. The material dredged for the construction and maintenance of the channels would be used for wetlands restoration and construction, to the maximum extent practicable.

2. Alternatives. Alternatives recommended for consideration presently include but not limited to: The construction of a shorter channel off of Chatlin Lake canal to the Red River above the lock and dam with a pump station, a green tree reservoir off of Chatlin Lake canal, improving hydraulic efficiency of Chatlin Lake canal by clearing and snagging or channel reshaping, and non structural flood proofing of structures.

3. Scoping. Scoping is the process for determining the scope of alternatives and significant issues to be addressed in the EIS. For this analysis, a letter will be sent to all parties believed to have an interest in the analysis, requesting their input on alternatives and issues to be evaluated. The letter will also notify interested parties of public scoping meetings that will be held in the local area. Notices will also be sent to local news media. All interested parties are invited to comment at this time, and anyone interested in this study should request to be included in the study mailing list.

A public scoping meeting will be held in the middle part of 2005. The meeting will be held in the vicinity of Alexandria, LA. Additional meetings could be held, depending upon interest and if it is determined that further public coordination is warranted.

4. Significant Issues. The tentative list of resources and issues to be evaluated in the EIS includes wetlands (marshes and swamps), aquatic, fisheries, wildlife, water quality, air quality, threatened and endangered species, recreation resources, and cultural resources. Socioeconomic items to be evaluated in the EIS include flood protection, business and industrial activity, employment, land use, property values, public/community facilities and services, tax revenues, population, community and regional growth, transportation, housing, community cohesion, and noise.

5. Environmental Consultation and Review. The U.S. Fish and Wildlife Service (USFWS) will be assisting in the documentation of existing conditions and assessment of effects of project alternatives through Fish and Wildlife Coordination Act consultation procedures. The USFWS will provide a Fish and Wildlife Coordination Act report. Consultation will be accomplished with the USFWS and the National Marine Fisheries Service (NMFS) concerning threatened and endangered species and their critical habitat. The draft EIS (DEIS) or a notice of its availability will be distributed to all interested agencies, organizations, and individuals.

6. Estimated Date of Availability. Funding levels will dictate the date when the DEIS is available. The earliest that the DEIS is expected to be available is in the fall of 2006.

Dated: May 11, 2005.
Peter J. Rowan,
Colonel, U.S. Army, District Engineer.

[FR Doc. 05-10544 Filed 5-25-05; 8:45 am]

BILLING CODE 3710-84-P